DEPARTMENT OF ENERGY

Federal Energy Regulatory Commission

[Project No. 469-013 -Minnesota]

Allete, Inc., d.b.a. Minnesota Power, Inc; Notice of Availability of Environmental Assessment

July 29, 2003.

In accordance with the National Environmental Policy Act of 1969 and the Federal Energy Regulatory Commission's (Commission's) regulations, 18 CFR part 380 (Order No. 486, 52 FR 47897), the Office of Energy Projects has reviewed the application for a new license for the Winton Hydroelectric Project located on the Kawishiwi River, in Lake and St. Louis Counties, Minnesota, and has prepared an Environmental Assessment (EA) for the project. In the EA, the Commission's staff has analyzed the potential environmental effects of the project and has concluded that approval of the project, with appropriate environmental measures, would not constitute a major federal action significantly affecting the quality of the human environment.

A copy of the EA is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659.

Any comments should be filed within 30 days from the date of this notice and should be addressed to the Secretary, Federal Energy Regulatory Commission, 888 First Street, NE., Room 1-A, Washington, DC 20426. Please affix “Winton Project No. 469” to all comments. Comments may be filed electronically via the Internet in lieu of paper. The Commission strongly encourages electronic filings. See 18 CFR 385.2001(a)(1)(iii) and the instructions on the Commission's Web site under the “e-Filing” link. For further information, contact Tom Dean at (202) 502-6041.

Magalie R. Salas,
Secretary.

[FR Doc. 03-19835 Filed 8-4-03; 8:45 am]

BILLING CODE 6717-01-P